Proclamation 10901 of March 6, 2025

National Consumer Protection Week, 2025

By the President of the United States of America

A Proclamation

Consumer rights are a cornerstone of American freedom, a building block of the American economy, and a foundation of American success. During this National Consumer Protection Week, we renew our commitment to protecting the American consumer, upholding the right to privacy and transparency, and ensuring the American economy remains free and prosperous.

Protecting Americans' transactions, personal data, and other private information is essential to their navigation of our dynamic market economy and their ability to ward off potential fraud and cyber security scams.

To protect consumer rights and strengthen American leadership in global digital advancement, I took immediate action to halt aggressive regulatory overreach that has stifled the growth of cryptocurrency. To advocate for greater transparency in consumer drug prices, I also proudly signed an Executive Order ensuring that advertisements provide accurate information about prescription drugs and do not mislead consumers about their products—a crucial step in making America healthy again. Consumers deserve honest and accurate information to make decisions—and my Administration will never waver in its commitment to promoting consumer rights.

During National Consumer Protection Week, local and Federal agencies, along with various consumer organizations, come together with the shared mission of providing resources, guides, and other materials to ensure Americans are aware of threats to their privacy and financial well-being. We cannot afford to neglect the importance of an informed and protected consumer—and I will continue to ensure that every action the Federal Government takes is aligned with protecting our rights, our privacy, and our Nation.

NOW, THEREFORE, I, DONALD J. TRUMP, President of the United States of America, by virtue of the authority vested in me by the Constitution and the laws of the United States, do hereby proclaim March 2 through March 8, 2025, as National Consumer Protection Week. I encourage all Americans to take advantage of the broad array of online resources offered by the Federal Trade Commission, and to share this information through consumer education activities in communities across the country.

IN WITNESS WHEREOF, I have hereunto set my hand this sixth day of March, in the year of our Lord two thousand twenty-five, and of the Independence of the United States of America the two hundred and forty-ninth.

[FR Doc. 2025-03948

Filed 3-10-25; 8:45 am]

Billing code 3395-F4-P